DEPARTMENT OF JUSTICE

Antitrust Division

Notice Pursuant to the National Cooperative Research and Production Act of 1993—Z-Wave Alliance, Inc.

Notice is hereby given that, on February 2, 2021, pursuant to Section 6(a) of the National Cooperative Research and Production Act of 1993, 15 U.S.C. 4301 et seq. (the “Act”), Z-Wave Alliance, Inc. filed written notifications simultaneously with the Attorney General and the Federal Trade Commission disclosing changes in its membership. The notifications were filed for the purpose of extending the Act's provisions limiting the recovery of antitrust plaintiffs to actual damages under specified circumstances. Specifically, Cherubini SPA, Bedizzole, ITALY; Devicebook Inc., Bellevue, WA; LINDSEY Technical Solutions, Lakewood Ranch, FL; RG Nets, Inc., Reno, NV; SHARP FUKUYAMA SEMICONDUCTOR CO., LTD., Fukuyama, JAPAN; Yas Electronics Systems, Sharjah, UNITED ARAB EMIRATES; ZTE Corporation, Guangdong, PEOPLE'S REPUBLIC OF CHINA; Vivint SmartHome, Provo, UT; SHENZHEN SEI ROBOTICS CO., LTD, Shenzhen, PEOPLE'S REPUBLIC OF CHINA; Syslink Technology Co., Ltd., Bangkok, THAILAND; Daikin Airconditioning (Singapore) Pte Ltd, Singapore, SINGAPORE; and Eneco, Rotterdam, THE NETHERLANDS have been added as parties to this venture.

And an existing member's name was misspelled in the prior notice (85 FR 77241): Beaumotica, Breda, THE NETHERLANDS is the correct spelling for “Beautmotica, Breda, THE NETHERLANDS.”

Also, Bridgetek Pte Ltd., Singapore, SINGAPORE; Tantiv4 Inc., Milpitas, CA; Chuango Security Technology Company Account, Fuzhou, PEOPLE'S REPUBLIC OF CHINA; Hank Electronics LTD., Shenzhen, PEOPLE'S REPUBLIC OF CHINA; LinkedGo Technology Co. Ltd., Guangzhou, PEOPLE'S REPUBLIC OF CHINA; EnLife, Haapsalu, ESTONIA; Gadget Access Pty Ltd, New South Wales, AUSTRALIA; Mad Rooster Home Protection, Mercer, WI; Miguel Corporate Services Pte Ltd., Midview City, SINGAPORE; Modern System Concepts, Inc., Houston, TX; Rejoin Telematics AB, Orebro, SWEDEN; Resilient Smart Home Communications LLC, Dallas, TX; Rigionn, Singapore, SINGAPORE; Smart Things Electronics SRL, Ilfov, ROMANIA; Alfred Smart Systems, S.L., Barcelona, SPAIN; Ei Electronics, County Clare, IRELAND; Sheenway Asia Limited, Kowloon, HONG KONG; and Quby B.V., Amsterdam, THE NETHERLANDS have withdrawn from this venture.

And IOn Technologies, Jacksonville, FL was mistakenly identified in the prior notice (85 FR 77241) and is not a party to this venture.

No other changes have been made in the membership or the planned activity of this venture. Membership in this venture remains open, and Z-Wave Alliance, Inc. intends to file additional written notifications disclosing all changes in membership.

On November 19, 2020, Z-Wave Alliance, Inc. filed its original notification pursuant to Section 6(a) of the Act. The Department of Justice published a notice in the Federal Register pursuant to Section 6(b) of the Act on December 1, 2020 (85 FR 77241).

Suzanne Morris,
Chief, Premerger and Division Statistics, Antitrust Division.

[FR Doc. 2021-04976 Filed 3-9-21; 8:45 am]

BILLING CODE P